COMMITTEE FOR THE IMPLEMENTATION OF TEXTILE AGREEMENTS

Adjustment of Import Limits for Certain Cotton, Man-Made Fiber, Silk Blend and Other Vegetable Fiber Textiles and Textile Products Produced or Manufactured in India

October 18, 2001.

AGENCY: Committee for the Implementation of Textile Agreements (CITA).

ACTION: Issuing a directive to the Commissioner of Customs adjusting limits.

EFFECTIVE DATE: October 25, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs Web site at http://www.customs.gov. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

The current limits for certain categories are being adjusted for swing, special shift and carryforward.

A description of the textile and apparel categories in terms of HTS numbers is available in the CORRELATION: Textile and Apparel Categories with the Harmonized Tariff Schedule of the United States (see Federal Register notice 65 FR 82328, published on December 28, 2000). Also see 65 FR 79344, published on December 19, 2000.

D. Michael Hutchinson,
Acting Chairman, Committee for the Implementation of Textile Agreements.

Committee for the Implementation of Textile Agreements

October 18, 2001.

Commissioner of Customs,

Department of the Treasury, Washington, DC 20229

Dear Commissioner: This directive amends, but does not cancel, the directive issued to you on December 13, 2000, by the Chairman, Committee for the Implementation of Textile Agreements. That directive concerns imports of certain cotton, man-made fiber, silk blend and other vegetable fiber textiles and textile products, produced or manufactured in India and exported during the twelve-month period which began on January 1, 2001 and extends through December 31, 2001.

Effective on October 25, 2001, you are directed to adjust the limits for the following categories, as provided for under the Uruguay Round Agreement on Textiles and Clothing:

Category | Adjusted twelve-month limit ¹
Levels in Group I
219 | 82,592,155 square meters.
313 | 45,640,563 square meters.
317 | 29,568,549 square meters.
326 | 11,413,085 square meters.
334/634 | 213,683 dozen.
335/635 | 951,316 dozen.
336/636 | 1,360,292 dozen.
338/339 | 5,134,479 dozen.
340/640 | 2,778,913 dozen.
341 | 5,768,744 dozen of which not more than 3,335,245 dozen shall be in Category 341-Y ²
342/642 | 1,926,418 dozen.
345 | 288,718 dozen.
347/348 | 1,093,834 dozen.
351/651 | 407,207 dozen.
363 | 63,229,578 numbers.
369-D ³ | 1,807,425 kilograms.
369-S ⁴ | 990,292 kilograms.
641 | 1,897,413 dozen.
647/648 | 1,123,847 dozen.
Group II |
200, 201, 220-227, 237, 239pt. ⁵, 300, 301, 331-333, 350, 352, 359pt. ⁶, 360-362, 600-604, 606 ⁷, 607, 611-629, 631, 633, 638, 639, 643-646, 649, 650, 652, 659pt. ⁸, 666, 669pt. ⁹, 670, 831, 833-838, 840-858 and 859pt. ¹⁰, as a group | 181,254,409 square meters equivalent.
¹ The limits have not been adjusted to account for any imports exported after December 31, 2000.
² Category 341-Y: only HTS numbers 6204.22.3060, 6206.30.3010, 6206.30.3030 and 6211.42.0054.
³ Category 369-D: only HTS numbers 6302.60.0010, 6302.91.0005 and 6302.91.0045.
⁴ Category 369-S: only HTS number 6307.10.2005.
⁵ Category 239pt.: only HTS number 6209.20.5040 (diapers).
⁶ Category 359pt.: all HTS numbers except 6406.99.1550.
⁷ Category 606: all HTS numbers except 5403.31.0040 (for administrative purposes Category 606 is designated as 606(1)).
⁸ Category 659pt.: all HTS numbers except 6406.99.1510 and 6406.99.1540.
⁹ Category 669pt.: all HTS numbers except 5601.10.2000, 5601.22.0090, 5607.49.3000, 5607.50.4000 and 6406.10.9040.
¹⁰ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc. 01-26778 Filed 10-23-01; 8:45 am]

BILLING CODE 3510-DR-S